NATIONAL SCIENCE FOUNDATION

Business and Operations Advisory Committee; Notice of Meeting

In accordance with Federal Advisory Committee Act (Pub. L. 92-463, as amended), the National Science Foundation announces the following meeting:

Name: Business and Operations Advisory Committee (9556).

Date/Time:

November 18, 2009; 1 p.m. to 5:45 p.m. (EST).

November 19, 2009; 8 a.m. to 12 p.m. (EST).

Place: National Science Foundation, 4201 Wilson Boulevard, Stafford I, Room 375.

Type of Meeting: Open.

Contact Person: Patty Balanga, National Science Foundation, 4201 Wilson Boulevard, Arlington, VA 22230 (703) 292-8100.

Purpose of Meeting: To provide advice concerning issues related to the oversight, integrity, development and enhancement of NSF's business operations.

Agenda:

November 18, 2009

Welcome/Introductions;

OIRM/CIO/BFA Updates;

FastLane/Grants.gov/System-to-System Capabilities;

The American Recovery and Reinvestment Act-Reporting/Update;

NSF Workforce Management;

iTrak-Financial System Modernization.

November 19, 2009

NSF Strategic Plan Revision-2010-2015;

Future NSF-2013 Lease Expiration;

Committee discussion and prepare for Meeting with NSF Deputy Director;

Discussion with Deputy Director;

Closing Committee Discussion/Wrap-Up.

Dated: October 20, 2009.
Susanne Bolton,
Committee Management Officer.

[FR Doc. E9-25575 Filed 10-23-09; 8:45 am]

BILLING CODE 7555-01-P